DEPARTMENT OF HEALTH AND HUMAN SERVICES

Food and Drug Administration

[Docket No. FDA-2010-E-0061]

Determination of Regulatory Review Period for Purposes of Patent Extension; ONGLYZA

Correction

In notice document 2010-21583 beginning on page 53315 in the issue of Tuesday, August 31, 2010, make the following correction:

On page 53316, in the second column, in the fifth line from the top, “[insert date 180 days after date of publication in the Federal Register]” should read “February 28, 2011”.

[FR Doc. C1-2010-21583 Filed 9-1-10; 8:45 am]

BILLING CODE 1505-01-D